DEPARTMENT OF JUSTICE

[CPCLO Order No. 006-2023]

Privacy Act of 1974; Systems of Records

AGENCY: Office of Justice Programs, United States Department of Justice.

ACTION: Notice of a modified system of records.

SUMMARY: Pursuant to the Privacy Act of 1974 and Office of Management and Budget (OMB) Circular No. A-108, notice is hereby given that the Office of Justice Programs (OJP), a component within the United States Department of Justice (DOJ or Department), proposes to modify a system of records notice titled Public Safety Officers' Benefits System, JUSTICE/OJP-012. The component proposes to revise Routine Uses B, G, and L.

DATES: In accordance with 5 U.S.C. 552a(e)(4) and (11), this notice is applicable upon publication, subject to a 30-day period in which to comment on the routine uses, described below. Therefore, please submit any comments by January 25, 2024.

ADDRESSES: The public, OMB, and Congress are invited to submit any comments: by mail to the United States Department of Justice, Office of Privacy and Civil Liberties, ATTN: Privacy Analyst, National Place Building, 1331 Pennsylvania Avenue NW, Suite 1000, Washington, DC 20530; by facsimile at 202-307-0693; or by email at privacy.compliance@usdoj.gov. To ensure proper handling, please reference the above CPCLO Order No. on your correspondence.

FOR FURTHER INFORMATION CONTACT: Hope Janke, Bureau of Justice Assistance, Office of Justice Programs, 810 7th Street NW, Washington, DC 20531; AskPSOB@usdoj.gov; (888) 744-6513.

SUPPLEMENTARY INFORMATION: The Department is updating the system of records notice for JUSTICE/OJP-012, last published in its entirety in the Federal Register at 64 FR 25070 (May 10, 1999), and amended at 66 FR 8425 (Jan. 31, 2001), 82 FR 24147 (May 25, 2017) and 84 FR 53749 (Oct. 8, 2019). This update will modify Routine Uses B, G, and L to clarify that these routine uses apply to all determination by the Public Safety Officer's Benefits Program, including denial of such claims.

In accordance with 5 U.S.C. 552a(r), the Department has provided a report to OMB and Congress on this notice of a modified system of records.

Dated: December 18, 2023.
Peter A. Winn,
Chief Privacy and Civil Liberties Officer (Acting), United States Department of Justice.

JUSTICE/OJP-012

SYSTEM NAME AND NUMBER:

Public Safety Officers' Benefits System, JUSTICE/OJP-012.

SECURITY CLASSIFICATION:

Unclassified.

SYSTEM LOCATION:

Bureau of Justice Assistance (BJA), Office of Justice Programs, (OJP), U.S. Department of Justice (DOJ), 810 Seventh Street NW, Washington, DC 20531.

SYSTEM MANAGER(S):

Director of the Public Safety Officers' Benefits (PSOB) Office, Bureau of Justice Assistance, Office of Justice Programs, U.S. Department of Justice, 810 Seventh Street NW, Washington, DC 20531.

ROUTINE USES OF RECORDS MAINTAINED IN THE SYSTEM, INCLUDING CATEGORIES OF USERS AND THE PURPOSES OF SUCH USES:

[Delete existing paragraphs B, G, and L and replace with the following:]

B. To Federal, State, local, Territorial, or Tribal governments, to agencies, departments, or instrumentalities of such governments, and to non-profit entities engaged in rescue activity or the provision of emergency medical services, as necessary to obtain information relevant to the adjudication of a claim for program benefits, including whether such claims determinations have been or are being made improperly.

G. To an employer or school having information that is or may be relevant to a claim, in order to obtain information from the same to the extent necessary to adjudicate a claim for program benefits (including whether such claims determinations have been or are being made improperly).

L. To any person or entity that OJP has reason to believe does or may possess information regarding a matter relevant to the administration of the PSOB Program, to the extent deemed to be necessary by OJP in order to obtain information relevant to the adjudication of a claim for program benefits, including whether such claims determinations have been or are being made improperly.

HISTORY:

64 FR 25070 (May 10, 1999): Last published in full;

66 FR 8425 (January 31, 2001): Added one routine use;

72 FR 3410 (January 25, 2007): Added one routine use;

82 FR 24147 (May 25, 2017): Rescinded 72 FR 3410 and added two routine uses;

84 FR 53749 (Oct. 8, 2019): Numerous substantive revisions; republished in full.

[FR Doc. 2023-28410 Filed 12-22-23; 8:45 am]

BILLING CODE 4410-18-P